DEPARTMENT OF AGRICULTURE

Forest Service

Northern New Mexico Resource Advisory Committee

AGENCY: Forest Service, USDA.

ACTION: Correct FR Doc. 2011-12588; Notice of meeting.

SUMMARY: The Northern New Mexico Resource Advisory Committee (NNM RAC) will meet in Albuquerque, New Mexico. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of the meeting is to review the agenda, make presentation of appointment certificates to NNM RAC members, conduct ethics training for NNM RAC members, revisit Operation Guidelines to add language on conflicts of interest, discuss support letters from counties, review monitoring report, provide opportunity for proponents to present proposals (5 minutes each), provide NNM RAC members opportunity to ask questions about proposals (3 minutes each), review and rank project proposals by Category Groups, provide recommendation for funding of projects to Designated Federal Official, set date for next meeting, and provide for public comment.

DATES: The meeting will be held on June 28, 2011 beginning at 10 a.m. and ending at 5 p.m. and on June 29, 2011 beginning at 8 a.m. and ending at 5 p.m.

ADDRESSES: The meeting will be held at Cibola National Forest Supervisors Office at 2113 Osuna Rd NE Albuquerque, NM 87113 in the conference room. Written comments may be submitted as described under SUPPLEMENTARY INFORMATION.

All comments, including names and addresses when provided, are placed in the record and are available for public inspection and copying. The public may inspect comments received at Carson National Forest, 208 Cruz Alta Road Taos, New Mexico. Please call ahead to 575-758-6344 to facilitate entry into the building to view comments.

FOR FURTHER INFORMATION CONTACT: Ignacio Peralta, RAC Coordinator, Carson National Forest, 575-758-6344, iperalta@fs.fed.us.

Ruben Montes, RAC Coordinator, Santa Fe National Forest, 505-438-5356, rmontes@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed FOR FURTHER INFORMATION CONTACT.

SUPPLEMENTARY INFORMATION: The following business will be conducted: review of agenda, make presentation of appointment certificates to NNM RAC members, conduct ethics training for NNM RAC members, revisit Operation Guidelines to add language on conflicts of interest, discuss support letters from counties, review monitoring report, provide opportunity for proponents to present proposals (5 minutes each), provide NNM RAC members opportunity to ask questions about proposals (3 minutes each), review and rank project proposals by Category Groups, provide recommendation for funding of projects to Designated Federal Official, set date for next meeting, and provide for public comment. Anyone who would like to bring related matters to the attention of the committee may file written statements with the committee staff before or after the meeting. The agenda will include time for people to make oral statements of three minutes or less. Individuals wishing to make an oral statement should request in writing by June 21, 2011 to be scheduled on the agenda. Written comments and requests for time for oral comments must be sent to 208 Cruz Alta Road, or by e-mail to iperalta@fs.fed.us, or via facsimile to 575-758-6213.

Dated: May 24, 2011.
Kendall Clark,
Forest Supervisor, Carson National Forest.

[FR Doc. 2011-13335 Filed 5-27-11; 8:45 am]

BILLING CODE 3410-11-P